DEPARTMENT OF DEFENSE

Department of the Air Force

Notice of Intent To Exchange Air Force Real Property for Non-Air Force Real Property

AGENCY: Air Force Civil Engineer Center, Department of the Air Force, DOD.

ACTION: Notice of intent.

SUMMARY: The Department of the Air Force is publishing this notice to identify federal real property that it intends to exchange for property that is needed by the Air Force to limit encroachment and other constraints on military operations at Buckley AFB, CO.

DATES: Written objections must be filed no later than fifteen (15) calendar days after the date of publication of this Notice.

ADDRESSES: Submit written objections to the Air Force Materiel Command Law Office, AFMCLO/JAZ, 2240 B Street, Room 260, Wright-Patterson AFB, OH 45433-7109; Facsimile: (937) 255-3733; or Email: afmclo.jaz.tech@us.af.mil. Include Docket No. AFD-1620 in the subject line of the message.

FOR FURTHER INFORMATION CONTACT: Mr. Jason Rose, Air Force Civil Engineer Center (AFCEC/CIUB), 2261 Hughes Avenue, Suite 155, Joint Base San Antonio (JBSA) Lackland, TX 78236-9853; telephone (210) 395-9516.

SUPPLEMENTARY INFORMATION: The Department of the Air Force will agree to convey 8.4 acres (parcel ID# 131345537) in fee with a nominal value ($0) to The City of Aurora, Colorado, the Recipient, in exchange for 10.5 acres (parcel ID# 033796888) in fee, also with a nominal value ($0). The U.S. Army Corps of Engineers (USACE) appraisal in accordance with Uniform Standards of Professional Appraisal Practice and Uniform Appraisal Standards for Federal Land Acquisitions concluded each parcel had a nominal or zero value because both parcels have restricted uses. The restriction on the 8.4 acres is a roadway easement. The restriction on the 10.5 acres located in a clear zone, has covenant which states, “no building or any other structure shall at any time be erected on the property” covenant in order to comply with airfield safety regulations. As such, the appraisals indicated both parcels have no economic use in a competitive marketplace and therefore worth a nominal or “zero” monetary value. The restrictions will stay in place after the land exchange in order to serve both parties future interests with regard to the usage of the land.

On September 18, 2020, the Air Force notified the appropriate Congressional committees of the terms and conditions of the proposed exchange pursuant to 10 U.S.C. 2869(d)(2).

Authority: 10 U.S.C. 2869(d)(1) and 10 U.S.C. 2684a(d)(4)(B)

Adriane Paris,
Acting Air Force Federal Register Liaison Officer.

[FR Doc. 2020-22359 Filed 10-8-20; 8:45 am]

BILLING CODE 5001-10-P